FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202)-523-5793 or tradeanalysis@fmc.gov.

Agreement No.: 011962-006.

Title: Consolidated Chassis Management Pool Agreement.

Parties: The Ocean Carrier Equipment Management Association and its member lines; the Association's subsidiary Consolidated Chassis Management LLC and its affiliates; China Shipping Container Lines Co., Ltd.; Companhia Libra de Navegacao; Compania Libra de Navegacion Uruguay; Matson Navigation Co.; Mediterranean Shipping Co., S.A.; Midwest Consolidated Chassis Pool LLC; Norasia Container Lines Limited; Westwood Shipping Lines; and Zim Integrated Shipping Services Ltd.

Filing Party: Jeffrey F. Lawrence, Esq.; Sher & Blackwell LLP; 1850 M Street, NW; Suite 900; Washington, DC 20036.

Synopsis: The amendment would add the Chicago Ohio Valley Consolidated Chassis Pool LLC as a party to the agreement.

Agreement No.: 012056.

Title: WWL/EUKOR Joint Operating Agreement.

Parties: EUKOR Car Carriers, Inc. and Wallenius Wilhemsen Logistics AS.

Filing Party: Wayne R. Rohde, Esq.; Sher & Blackwell, LLP; 1850 M Street NW Suite 900; Washington, DC 20036.

Synopsis: The agreement would authorize the parties to engage in a broad range of operational and commercial cooperation in the U.S. foreign commerce.

Agreement No.: 012057.

Title: CMA CGM /Maersk Line Space Charter, Sailing and Cooperative Working Agreement Asia to USEC and PNW-Suez/PNW & Panama Loops.

Parties: A.P. Moller-Maersk A/S, and CMA CGM S.A.

Filing Party: Wayne R. Rohde, Esq.; Sher and Blackwell LLP; 1850 M Street, NW Suite 900; Washington, DC 20036.

Synopsis: The agreement authorizes the parties to share vessel space in the trades between the U.S. East and West Coasts and Asia.

Agreement No.: 200866-006.

Title: Lease and Operating Agreement between Broward County and King Ocean Service de Venezuela, S.A. and King Ocean Services, Ltd.

Parties: Broward County, King Ocean Service de Venezuela, S.A., and King Ocean Services, Ltd.

Filing Party: Candace J. Running; Broward County Board of County Commissioners; Office of the County Attorney; 1850 Eller Drive, Suite 502; Fort Lauderdale, FL 33316.

Synopsis: The amendment changes the location of Lessee's existing container terminal facility from Midport to Southport, Port Everglades and extends the lease term for an additional one year period.

Agreement No.: 201170-002.

Title: The Los Angeles and Long Beach Port Infrastructure and Environmental Programs Cooperative Working Agreement.

Parties: Port of Los Angeles and Port of Long Beach.

Filing Party: C. Jonathan Benner, Esq.; Troutman Sanders, LLP; 401 9th Street Suite 1000; Washington, DC 20004-2134.

Synopsis: The amendment confirms that the parties' authority to adopt joint measures regarding the terms and conditions of a concession does not extend to measures that require employee status for drivers of Drayage Trucks or permit or exclude independent owner-operator drivers from providing or operating Drayage Trucks in either Port.

Agreement No.: 201196-002.

Title: Los Angeles and Long Beach Marine Terminal Agreement.

Parties: City of Los Angeles and City of Long Beach.

Filing Party: Matthew J. Thomas, Esq.; Troutman Sanders LLP; 401 9th Street NW Suite 1000; Washington, DC 20004.

Synopsis: The amendment confirms that the parties' authority to adopt joint measures regarding terms and conditions of a concession does not extend to measures that require employee status for drivers of Drayage Trucks or permit or exclude independent owner-operator drivers from providing or operating Drayage Trucks in either Port.

By Order of the Federal Maritime Commission.
Dated: November 21, 2008.
Karen V. Gregory,
Secretary.

[FR Doc. E8-28141 Filed 11-25-08; 8:45 am]

BILLING CODE 6730-01-P